DEPARTMENT OF THE INTERIOR

Bureau of Reclamation

Quarterly Status Report of Water Service, Repayment, and Other Water-Related Contract Actions

AGENCY: Bureau of Reclamation, Interior.

ACTION: Notice.

SUMMARY: Notice is hereby given of contractual actions that have been proposed to the Bureau of Reclamation and are new, modified, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Division, Bureau of Reclamation, P.O. Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in This Document

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

LCWSP Lower Colorado Water Supply Project

M&I Municipal and Industrial

NMISC New Mexico Interstate Stream Commission

O&M Operation and Maintenance

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

Modified contract action:

8. Four irrigation water user entities, Rogue River Basin Project, Oregon: Long-term contracts for exchange of water service with five entities for the provision of up to 534 acre-feet of stored water from Applegate Reservoir (a USACE project) for irrigation use in exchange for the transfer of out-of-stream water rights from the Little Applegate River to instream flow rights with the State of Oregon for instream flow use.

Mid-Pacific Region: Bureau of Reclamation, 2800 Cottage Way, Sacramento, California 95825-1898, telephone 916-978-5250.

The Mid-Pacific Region has no updates to report for this quarter.

Lower Colorado Region: Bureau of Reclamation, P.O. Box 61470 (Nevada Highway and Park Street), Boulder City, Nevada 89006-1470, telephone 702-293-8192.

Completed contract action:

11. Arizona Recreational Facilities, LLC and Lake Havasu City, BCP, Arizona: Approve a partial assignment and transfer of 12.7 acre-feet per year of Arizona fourth priority Colorado River water from Arizona Recreational Facilities to Lake Havasu City and the related amendments. Contract executed February 25, 2013.

Upper Colorado Region: Bureau of Reclamation, 125 South State Street, Room 6107, Salt Lake City, Utah 84138-1102, telephone 801-524-3864.

The Upper Colorado Region has no updates to report for this quarter.

Great Plains Region: Bureau of Reclamation, P.O. Box 36900, Federal Building, 316 North 26th Street, Billings, Montana 59101, telephone 406-247-7752.

New contract actions:

47. Cornwell Ranch, Milk River Project, Montana: Enter into a new long-term Warren Act excess capacity contract for conveyance on nonproject water.

48. Ruedi Reservoir, Fryingpan-Arkansas Project, Colorado: Amend existing contract term for Round I and Round II contracts.

Modified contract actions:

4. Ruedi Reservoir, Fryingpan-Arkansas Project, Colorado: Proposed repayment contracts for the remaining water from the regulatory capacity of Ruedi Reservoir for irrigation and M&I use.

13. Roger W. Evans (Individual), Boysen Unit, P-SMBP, Wyoming: Renewal of long-term water service contracts.

14. Big Horn Canal ID, Boysen Unit, P-SMBP, Wyoming: Intent to enter into a long-term water service contract.

15. Hanover ID, Boysen Unit, P-SMBP, Wyoming: Intent to enter into a long-term water service contract with the District.

19. Green Mountain Reservoir, Colorado-Big Thompson Project, Colorado: Consideration of a request for a long-term contract for municipal-recreational purposes.

20. Northern Colorado Water Conservancy District, Colorado Big-Thompson Project, Colorado: Supplement to contract No. 9-07-70-W0020 to allow Northern Colorado Water Conservancy District to contract for delivery of 5,412.5 acre-feet of water annually out of Lake Granby to the 15-Mile Reach.

24. Northern Colorado Water Conservancy District, Colorado Big Thompson Project, Colorado: Amend or supplement the 1938 repayment contract to include the transfer of operation, maintenance, and replacement for Carter Lake Dam Additional Outlet Works and Flatiron Power Plant Bypass facilities.

30. Purgatoire Water Conservancy District, Trinidad Project, Colorado: Consideration of an amendatory contract.

Discontinued contract actions:

25. Miscellaneous water users in North Dakota and South Dakota: Intent to develop short- or long-term water service contracts for minor amounts of water to serve domestic needs at Reclamation reservoirs.

27. Southeastern Colorado Water Conservancy District, Fryingpan-Arkansas Project, Colorado: Consideration of amendatory contract to address a change in timing of their repayment obligation.

31. Soldier Canyon Filter Plant, City of Fort Collins, City of Greeley, and Northern Colorado Water Conservancy District; Colorado-Big Thompson Project; Colorado: Consideration of temporary excess capacity contract(s) in Horsetooth Reservoir.

45. Helena Valley ID; Valley Unit, P-SMBP; Montana: Proposed contract amendment to allow the sale and delivery of excess water for miscellaneous purposes.

Completed contract actions:

12. Glendo Unit, P-SMBP, Wyoming: Intent to enter into a long-term excess capacity contract with Pacificorp. Contract executed February 27, 2013.

23. Scotty Phillip Cemetery, Mni-Wiconi Project, South Dakota: Consideration of a new long-term M&I water service contract. Contract executed October 16, 2012.

Dated: April 4, 2013.
Roseann Gonzales,
Director, Policy and Administration.

[FR Doc. 2013-11074 Filed 5-8-13; 8:45 am]

BILLING CODE 4310-MN-P